DEPARTMENT OF COMMERCE

National Oceanic and Atmospheric Administration

RIN 0648-XC973

Endangered and Threatened Species; Take of Anadromous Fish

AGENCY: National Marine Fisheries Service (NMFS), National Oceanic and Atmospheric Administration (NOAA), Commerce.

ACTION: Applications for four new scientific research permits, two permit modifications, and three research permit renewals.

SUMMARY: Notice is hereby given that NMFS has received nine scientific research permit application requests relating to Pacific salmon, sturgeon, rockfish, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on December 19, 2013.

ADDRESSES: Written comments on the applications should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened California Coastal (CC); threatened Central Valley spring-run (CVS); threatened Lower Columbia River (LCR); threatened Puget Sound (PS); endangered Sacramento River winter-run (SRW); threatened Snake River (SR) fall-run; threatened SR spring/summer-run (spr/sum); endangered Upper Columbia River (UCR) spring-run; threatened Upper Willamette River (UWR).

Steelhead (O. mykiss): Threatened UCR; threatened SR; threatened middle Columbia River (MCR); threatened California Central Valley (CCV); threatened Central California Coast (CCC); threatened LCR; threatened Northern California (NC); threatened PS; threatened South-Central California Coast (SCC); threatened UWR.

Sockeye salmon (O. nerka): Endangered SR; threatened Ozette Lake (OL).

Chum salmon (O. keta): Threatened Columbia River (CR); threatened Hood Canal summer-run (HCS).

Coho salmon (O. kisutch): Endangered CCC; threatened LCR; threatened Oregon Coast (OC); threatened Southern Oregon/Northern California Coast (SONCC).

Eulachon (Thaleichthys pacificus): Threatened southern (S).

Green sturgeon (Acipenser medirostris): Threatened southern (S).

Rockfish (Sebastes spp.): Endangered Puget Sound/Georgia Basin (PS/GB) bocaccio (Sebastes paucispinis); threatened PS/GB canary rockfish (S. pinniger); threatened PS/GB yelloweye rockfish (S. ruberrimus).

Authority

Scientific research permits are issued in accordance with section 10(a)(1)(A) of the ESA (16 U.S.C. 1531 et. seq) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1484-6R

The Washington Department of Natural Resources (WDNR) is seeking to renew permit 1484 for a period of five years. The current permit has been in place for five years with one amendment; it expires on December 31, 2013. Under the new permit, the WDNR would conduct research that would annually take juvenile PS Chinook salmon, LCR Chinook salmon, LCR coho salmon, LCR steelhead, and CR chum salmon in WDNR-managed forest lands in the state of Washington. The purpose of the research is to conduct surveys to correctly identify stream types. By correctly identifying stream types, the WDNR could potentially benefit listed species by increasing the size of riparian zones and thus protecting habitat needed for healthy salmonid populations. In addition, any new data regarding listed species presence would be used to inform land management decisions and better protect species from the effects of those actions. The WDNR proposes to capture the fish (using backpack electrofishing), identify, and release them. The WDNR does not intend to kill any of the fish being captured, but a small number may die as an unintended consequence of the proposed activities.

Permit 14046-2R

The King County Department of Natural Resources and Parks (KCDNRP) is seeking to renew a five-year permit to annually take juvenile PS Chinook salmon and PS steelhead. They would sample fish in four Puget Sound sub-basins (Snoqualmie, Lake Washington, Duwamish, and Puyallup) in King County, Washington. The purposes of the study are to: (1) Evaluate the effectiveness of restoration actions, (2) better understand the importance of off-channel habitats in providing habitat, and (3) assess salmonid habitat status and trends in small streams with varying degrees of land use. The research would benefit listed species by guiding future restoration projects so they might provide the greatest benefit to listed species. The KCDNRP proposes to capture fish using beach seines, fyke nets, minnow traps, and both backpack- and boat-operated electrofishing. The captured fish would be anaesthetized, identified to species, allowed to recover, and released. The researchers do not propose to kill any of the listed salmonids being captured, but a small number may die as an unintended consequence of the proposed activities.

Permit 16751-2R

The United States Geological Survey (USGS) is seeking to renew a five-year permit to annually take juvenile and adult PS Chinook salmon, HCS chum salmon, and PS steelhead. The USGS's research may also cause them to take listed eulachon—a species for which there are currently no ESA take prohibitions. Sampling sites would be in the Cedar, Dungeness, Nooksack, Skagit, Skykomish, Snohomish, Snoqualmie, and Stillaguamish river systems of the Puget Sound. The purpose of the study is to identify and assess Pacific lamprey distribution in these watersheds. The research would benefit the listed species by providing managers with information about their distribution and numbers. The main benefactor of this research would be Pacific lamprey because the information generated by the research would be used to help guide conservation measures and land-use activities in ways that conserve lamprey and their habitat; however, because the listed species also use that habitat, any such measures would also benefit them. The USGS proposes to capture fish using backpack electrofishing and seines. Sampling would target silt-mud substrates that are preferred habitats for juvenile lamprey. The research would take place during the late summer and fall before peak lamprey emigration. Electrofishing methods would be modified to target juvenile lamprey and would thus be unlikely to affect, let alone harm, other fish species. A subsample of the captured lamprey would be measured and weighed (up to 30 per site) and up to five fish per site may be tissue sampled or sacrificed. All other fish (including all listed fish) would immediately be released at the capture site. The researchers do not propose to kill any of the listed species being captured, but a small number may die as an unintended result of the proposed activities.

Permit 16984-3M

The ICF International (ICFI) is seeking to modify a five-year permit that currently allows them to take juvenile PS Chinook salmon and PS steelhead. The researchers would conduct sampling in the Snohomish River estuary. The purpose of the study is to measure restored habitat functionality in the wake of the Smith Island dike breaching. The researchers would gauge species abundance and examine juvenile salmonid age classes during peak outmigration. This research would benefit the affected species by providing data to guide future estuarine habitat restoration and enhancement projects. The ICFI proposes to capture fish using hand-held beach seines and dip nets. Fish would be identified to species, measured, and released. The researchers do not propose to kill any of the listed salmonids being captured, but a small number may die as an unintended result of the activities.

Permit 17062-3M

The Northwest Fisheries Science Center (NWFSC) is seeking to modify a 2-year research permit to annually take adult and juvenile HCS chum, PS Chinook salmon, and PS steelhead, and adult PS/GB bocaccio. The researchers may also take adult PS/GB canary rockfish and PS/GB yelloweye rockfish—species for which there are currently no ESA take prohibitions. Sampling would take place throughout the Puget Sound, the Strait of Juan de Fuca, and Hood Canal. The purpose of the study is to determine how much genetic variation exists between coastal and Puget Sound/Georgia Basin DPS populations of bocaccio, canary rockfish, and yelloweye rockfish. The research would benefit rockfish by increasing our understanding of the connectivity (or lack thereof) between rockfish populations in the Puget Sound and populations on the outer coast. The NWFSC proposes to capture fish using hook and line equipment at depths of 50-100 meters along rocky bottom habitat. Fish would slowly be reeled to the surface to reduce barotrauma. All salmon and steelhead would be immediately released at the capture site. All captured ESA-listed rockfish would be measured, sexed, have a tissue sample taken, floy tagged, and returned to the water via rapid submersion techniques. If an individual of these species is captured dead or deemed nonviable, it would be retained for genetic analysis. The researchers do not propose to kill any of the listed fish being captured, but a small number may die as an unintended result of the activities.

Permit 18038

The Pacific States Marine Fisheries Commission (PSMFC) is seeking a five-year research permit to annually take all individuals from all the salmonid species listed at the beginning of this notice along with S green sturgeon. They may also take S eulachon—a species for which there are currently no ESA take prohibitions. All take for salmon and steelhead would be subadult and adults, and all take for green sturgeon and eulachon would be adult. The surveys would range from the northern California to the Washington coast in coastal waters shallower than 1,000 meters. The purpose of the study is to collaborate with gear researchers and fishermen to develop devices and or methods for reducing bycatch in West Coast groundfish trawl fisheries. The research would benefit listed fish by determining the best ways to reduce bycatch. The PSMFC proposes capturing fish using mid-water and bottom trawls. Fish would be identified to species, have a tissue or scale sample taken, and be released. The researchers do not propose to kill any of the listed species being captured, but given the nature of the capture methods, some individuals would likely be killed.

Permit 18194

The Wild Fish Conservancy (WFC) is seeking a five-year permit to annually take juvenile PS Chinook salmon and juvenile and adult PS steelhead. The sampling would take place in selected stream channels and floodplain areas throughout the Stillaguamish River watershed in Washington State. The purpose of the study is to classify by water type approximately 25 miles of stream channel in selected sub-basins and floodplain areas of the Stillaguamish River with the intent of verifying and updating Washington Department of Natural Resources, Snohomish County, and United States Forest Service stream classifications and hydrological layers. This research would benefit the affected species by improving regulatory protection of sensitive aquatic habitats for ESA listed Chinook and steelhead, improving our knowledge of Chinook habitat use (and thereby informing various recovery strategies), and identifying significant habitat restoration opportunities. The WFC proposes to capture fish using beach seines, fyke nets, and minnow traps. Fish would be anesthetized, identified to species, measured to size class, have a tissue sample taken, and released. The researchers do not propose to kill any of the listed salmonids being captured, but a small number may die as an unintended result of the activities.

Permit 18331

The WFC is seeking a five-year permit to annually take juvenile PS Chinook salmon and PS steelhead in selected stream channels and floodplain areas throughout the Kitsap and Snoqualmie sub-basins in Washington State. The purpose of the study is to classify existing channels by water type and thereby validate and update Washington Department of Natural Resources, and affected county and city, stream classifications and hydrological layers. This research would benefit the affected species by filling data gaps regarding fish passage impediments (tidegates, culverts, etc.) and providing fish species composition and distribution—information needed to identify, prioritize, and implement restoration projects. The WFC proposes to capture fish using backpack electrofishing. Fish would be identified to species, have a tissue sample taken (only steelhead in the Kitsap sub-basin), and released. Once fish presence is established, either through visual observation or electrofishing, electrofishing would be discontinued. Surveyors would proceed upstream until a change in habitat parameters is encountered, where electrofishing would be continued. The researchers do not propose to kill any of the listed salmonids being captured, but a small number may die as an unintended result of the activities.

Permit 18405

The Oregon State University (OSU) is seeking a two-year permit to annually take juvenile LCR, PS, and UCR Chinook salmon; CR chum salmon; LCR coho salmon; and LCR, MCR, PS, SRB, and UCR steelhead. The OSU research may also cause them to take adult S eulachon—a species for which there are currently no ESA take prohibitions. The sampling would take place in multiple locations in the Puget Sound (Stillaguamish, Skykomish, Duwamish, and Nisqually watersheds), Washington coast (Sol Duc, Queets, Quinault, Chehalis, and Willapa watersheds), and Columbia River basin (Cowlitz, Klickitat, Yakima, Wenatchee, Spokane, and Palouse watersheds). The purpose of the study is to determine the taxonomic status of Pacific Northwest coastal populations of Speckled Dace based on genetic and morphological data. The genetic sequence data would be used to better understand the historical biogeography of coastal Speckled Dace, improve the understanding of how coastal streams contribute to local species diversity and endemism, and to compare coastal to inland Speckled Dace populations. The research would benefit the listed species by providing information on their distribution, but the main benefactor of this research would be speckled dace by providing taxonomical and distributional data for that species. The OSU proposes to capture fish using small seine nets, dip nets, and minnow traps. All non-target species and listed salmon and steelhead would immediately be released after capture. The researchers do not propose to kill any of the listed salmonids being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: November 14, 2013.
Angela Somma,
Chief, Endangered Species Division, Office of Protected Resources, National Marine Fisheries Service.

[FR Doc. 2013-27658 Filed 11-18-13; 8:45 am]

BILLING CODE 3510-22-P